DEPARTMENT OF COMMERCE

Bureau of the Census

Census Scientific Advisory Committee

AGENCY: Bureau of the Census, Department of Commerce.

ACTION: Notice of public meeting.

SUMMARY: The Bureau of the Census (Census Bureau) is giving notice of a meeting of the Census Scientific Advisory Committee (C-SAC). The Committee will address policy, research, and technical issues relating to a full range of Census Bureau programs and activities, including communications, decennial, demographic, economic, field operations, geographic, information technology, and statistics. The C-SAC will meet in a plenary session on April 14-15, 2016. Last minute changes to the schedule are possible, which could prevent giving advance public notice of schedule adjustments. Please visit the Census Advisory Committees Web site for the most current meeting agenda at: http://www.census.gov/cac/. The meeting will be available via Web cast at: http://www.census.gov/newsroom/census-live.html or at http://www.ustream.tv/embed/6504322?wmode=direct.

DATES: April 14-15, 2016. On April 14, the meeting will begin at approximately 8:30 a.m. and end at approximately 4:15 p.m. On April 15, the meeting will begin at approximately 8:30 a.m. and end at approximately 2:45 p.m.

ADDRESSES: The meeting will be held at the U.S. Census Bureau Auditorium, 4600 Silver Hill Road, Suitland, Maryland 20746.

FOR FURTHER INFORMATION CONTACT: Tara Dunlop, Branch Chief for Advisory Committees, Customer Liaison and Marketing Services Office, tara.t.dunlop@census.gov, Department of Commerce, U.S. Census Bureau, Room 8H177, 4600 Silver Hill Road, Washington, DC 20233, telephone 301-763-5222. For TTY callers, please use the Federal Relay Service 1-800-877-8339.

SUPPLEMENTARY INFORMATION: The members of the C-SAC are appointed by the Director, U.S. Census Bureau. The Committee provides scientific and technical expertise, as appropriate, to address Census Bureau program needs and objectives. The Committee has been established in accordance with the Federal Advisory Committee Act (Title 5, United States Code, Appendix 2, Section 10).

All meetings are open to the public. A brief period will be set aside at the meeting for public comment on April 15. However, individuals with extensive questions or statements must submit them in writing to: census.scientific.advisory.committee@census.gov (subject line “April 2016 C-SAC Meeting Public Comment”), or by letter submission to Kimberly L. Collier, Committee Liaison Officer, Department of Commerce, U.S. Census Bureau, Room 8H179, 4600 Silver Hill Road, Washington, DC 20233.

If you plan to attend the meeting, please register by Tuesday, April 12, 2016. You may access the online registration from the following link: https://www.regonline.com/Register/Checkin.aspx?EventID=1822689. Seating is available to the public on a first-come, first-served basis.

This meeting is physically accessible to people with disabilities. Requests for sign language interpretation or other auxiliary aids should also be directed to the Committee Liaison Officer as soon as known, and preferably two weeks prior to the meeting.

Due to increased security and for access to the meeting, please call 301-763-9906 upon arrival at the Census Bureau on the day of the meeting. A photo ID must be presented in order to receive your visitor's badge. Visitors are not allowed beyond the first floor.

Topics to be discussed include the following items:

• 2020 Census Program Overview

○ Reengineering Address Canvassing

○ Utilizing Administrative Records

○ Optimizing Self-Response

• BIG Data

• National Content Test Study Plan

• Working Groups Reports

○ BIG Data

○ Census Enterprise Data Collection and Processing Systems (CEDCaP) and Reorganized Census with Integrated Technology (ROCkIT)

○ American Community Survey (ACS) Reducing Respondent Burden

• Brief of National Academy of Science ACS Expert Group

• Technology EXPO

Dated: March 4, 2016.
John H. Thompson,
Director, Bureau of the Census.

[FR Doc. 2016-05541 Filed 3-10-16; 8:45 am]

BILLING CODE 3510-07-P